DEPARTMENT OF COMMERCE

National Oceanic and Atmospheric Administration

Proposed Information Collection; Comment Request; Pacific Islands Region, Guam Bottomfish Large Vessel Permits

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 24, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Anik Clemens (808) 944-2265 or anik.clemens@noaa.gov.

SUPPLEMENTARY INFORMATION:

I. Abstract

The National Marine Fisheries Service (NMFS) requires U.S. vessels, larger than 50 feet in length that land or transship bottomfish management unit species shoreward of the outer boundary of the Exclusive Economic Zone (EEZ) around Guam, be registered under a valid permit. Eligibility for such a permit would not be restricted in any way, and the permit would be renewable on an annual basis. To obtain a permit for a given year, a prospective participant would have to complete and submit an application form to NMFS. The permit application form provides basic information about the permit applicant, vessel, fishing gear and method, targeted species, projected fishing effort, etc., for use by NMFS and the Western Pacific Fishery Management Council. The information is important for understanding the nature of the fishery and provides a link to participants. It also aids in the enforcement of the Fishery Management Plan measures.

II. Method of Collection

Information is submitted in the form of paper permit application forms.

III. Data

OMB Number: None.

Form Number: None.

Type of Review: Regular submission.

Affected Public: Business or other for-profit organizations; individuals or households.

Estimated Number of Respondents: 5.

Estimated Time Per Response: 30 minutes.

Estimated Total Annual Burden Hours: 3.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 17, 2005.
Gwellnar Banks,
Management Analyst, Office of the Chief Information Officer.

[FR Doc. 05-16662 Filed 8-22-05; 8:45 am]

BILLING CODE 3510-22-P